GENERAL ACCOUNTING OFFICE

Advisory Council on Government Auditing Standards; Government Auditing Standards

AGENCY: General Accounting Office.

ACTION: Notice of document availability.

SUMMARY: David M. Walker, Comptroller General of the United States and head of the U.S. General Accounting Office (GAO), on Wednesday, June 25, 2003, announced the release of a new edition of “Government Auditing Standards” commonly referred to as the Yellow Book. GAO's publication of “Government Auditing Standards” provides a framework for ensuring the competence, integrity, objectivity, and independence of government audits at a time of urgent need for integrity in the auditing profession and for transparency and accountability in the management of limited government resources. This fourth revision since the standards were first published in 1972 will guide audits of financial and program management not only in Federal agencies, but also State and local governments, and nonprofit organizations that receive Federal funds. Bringing the 1994 edition up to date after an extensive process of consultation with auditors and stakeholders, the standards incorporate amendments on computer-based information systems, auditor communication, and auditor independence. The revision strengthens audit requirements for identifying fraud, illegal acts, and noncompliance; redefines the types of audits and services covered; provides consistency of requirements across types of audits; and gives clear guidance to auditors as they work toward a government that is efficient, effective, and accountable to the people.

New standards are applicable for financial audits and attestation engagements of periods ending on or after January 1, 2004, and for performance audits beginning on or after January 1, 2004. Early applications is permissible and encouraged.

“Government Auditing Standards” is available on the GAO Web site at www.gao.gov/govaud/ybk01.htm. Printed copies will be available from the U.S. Government Printing Office. Also posted on the Web site is a list of major changes from the 1994 edition.

FOR FURTHER INFORMATION CONTACT: Marcia Buchanan, Assistant Director, Government Auditing Standards, 202-512-9321.

Jeanette M. Franzel,
Director, Financial Management and Assurance.

[FR Doc. 03-16716 Filed 7-1-03; 8:45 am]

BILLING CODE 1610-03-M